DEPARTMENT OF TRANSPORTATION

Federal Aviation Administration

Notice of Intent To Release Airport Property at St. Petersburg-Clearwater International (PIE), St. Petersburg, FL

AGENCY: Federal Aviation Administration (FAA), DOT.

ACTION: Notice and request for public comment.

SUMMARY: The FAA hereby provides notice of intent to release certain airport properties of approximately 16.88 acres at St. Petersburg-Clearwater International (PIE), St. Petersburg, FL from the conditions, reservations, and restrictions as contained in a Quitclaim Deed agreement between the FAA and the Pinellas County, dated 11 March 1941. The release of property will allow Pinellas County to dispose of the property for Florida Department of Transportation roadway right of way project.

DATES: Comments are due on or before July 8, 2016.

ADDRESSES: Documents are available for review at St. Petersburg-Clearwater International Airport (PIE), and the FAA Airports District Office, 5950 Hazeltine National Drive, Suite 400, Orlando, FL 32822. Written comments on the Sponsor's request must be delivered or mailed to: Jenny Iglesias-Hamann, Community Planner, Orlando Airports District Office, 5950 Hazeltine National Drive, Suite 400, Orlando, FL 32822-5024.

FOR FURTHER INFORMATION CONTACT: Jenny Iglesias-Hamann, Community Planner, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

The property is located Multiple parcels along Roosevelt Road (SR 686) adjacent to airport. The parcels are currently designated Aeronautical and Non-Aeronautical. The property will be released of its federal obligations in support of the Florida Department of Transportation (FDOT) Gateway Express Project. The fair market value of thess parcels has been determined to be $12,205,865.

Documents reflecting the Sponsor's request are available, by appointment only, for inspection at the St. Petersburg-Clearwater International Airport (PIE) and the FAA Airports District Office.

Bart Vernace,
Manager, Orlando Airports District Office, Southern Region.

[FR Doc. 2016-13554 Filed 6-7-16; 8:45 a.m.]

BILLING CODE 4910-13-P